DEPARTMENT OF LABOR

Employment and Training Administration

[TA-W-75,135]

Flowserve Corporation, Albuquerque, NM; Notice of Affirmative Determination Regarding Application for Reconsideration

By application dated March 23, 2011, a State of New Mexico workforce official requested administrative reconsideration of the Department of Labor's negative determination regarding eligibility to apply for Trade Adjustment Assistance (TAA), applicable to workers and former workers of the subject firm. The Department's Notice was issued on February 28, 2011 and published in the Federal Register on March 17, 2010 (76 FR 14693).

The negative determination of the TAA petition filed on behalf of workers at the subject firm was based on the finding that Criterion (1) has not been met because no workers were totally or partially separated, or threatened with such separation.

In the request for reconsideration, the petitioner claimed that worker separations had occurred during the relevant time period and provided documentation in support of this allegation.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 6th day of April 2011.
Del Min Amy Chen,
Certifying Officer, Office of Trade Adjustment Assistance.

[FR Doc. 2011-8981 Filed 4-13-11; 8:45 am]

BILLING CODE 4510-FN-P